DEPARTMENT OF COMMERCE

National Oceanic and Atmospheric Administration

[RTID 0648-XF508]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council will hold a public webinar to collect input on the Private Recreational Tilefish Permitting and Reporting Framework.

DATES: The meeting will be held on Monday, March 2, 2026, from 6 p.m.-8 p.m. ET. For agenda details, see SUPPLEMENTARY INFORMATION.

ADDRESSES: The meeting will be held via webinar. Connection information will be posted to the Council's calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council (Council) will host a webinar to collect public input on the Private Recreational Tilefish Permitting and Reporting Framework. The Council is seeking feedback to consider the draft alternatives to modify and/or streamline the current private recreational tilefish permit and reporting requirements. The intent of this framework is to consider changes to the private recreational tilefish permitting and reporting program to ensure that the regulatory approach is appropriate, effective, and proportionate to the data needs for managing blueline and golden tilefish. This action seeks to identify an approach that reduces unnecessary regulatory burden, improves clarity and enforceability of the reporting requirements, and supports the collection of reliable information needed for stock assessment and management. The alternatives currently under consideration include (1) eliminating the permit and/or reporting requirements all together, (2) modifying the trip reporting requirements, and/or (3) modifying the trip report submission timeframe.

The primary target audience for this webinar includes (a) any private recreational angler that targets or fishes for tilefish from Virginia north, (b) any member of the public with knowledge regarding private recreational reporting, and (c) any member of the public who wishes to provide comments or recommendations on these regulations. Additional information, background documents, and instructions for providing written comments will be posted to the Council's website at: https://www.mafmc.org/.

The meeting is physically accessible to people with disabilities. Requests for sign language interpretation or other auxiliary aids should be directed to Shelley Spedden, (302) 526-5251 at least 5 days prior to the meeting date.

(Authority: 16 U.S.C. 1801 et seq.)

Dated: February 4, 2026.
Rey Israel Marquez,
Acting Deputy Director, Office of Sustainable Fisheries, National Marine Fisheries Service.

[FR Doc. 2026-02432 Filed 2-5-26; 8:45 am]

BILLING CODE 3510-22-P